NUCLEAR REGULATORY COMMISSION

[Docket No. 40-2377, License No. Stb-472 (Terminated)

Kaiser Aluminum & Chemical Corporation; Notice of Completion of Decommissioning of Kaiser Aluminum & Chemical Corporation Site, Tulsa, OK

ACTION: Notice of Completion of Decommissioning of the Kaiser Aluminum & Chemical Corporation (Kaiser) Tulsa Site.

SUMMARY: The Nuclear Regulatory Commission (NRC) is noticing the completion of decommissioning activities at the Kaiser Tulsa Site located in Tulsa, Oklahoma.

Background

The Kaiser plant in Tulsa, Oklahoma, was built by the Standard Magnesium Corporation (SMC) in the early to mid-1950s to manufacture magnesium products. SMC received a source materials license from the Atomic Energy Commission (AEC) in March 1958, authorizing possession and title to magnesium-thorium alloy with up to 4 percent thorium content for processing. Scrap magnesium-thorium alloy was smelted along with other magnesium materials to recover the magnesium. Thorium alloy material comprised a small fraction of the total magnesium refined on site. Kaiser purchased the facility in 1964. Kaiser's license was terminated in 1971, by the AEC at Kaiser's request.

The Kaiser facility was placed on the Site Decommissioning Management Plan (SDMP) list in 1994, after the NRC detected surface contamination on, and adjacent to, the Kaiser property in 1993. Kaiser elected to remediate the site in two phases.

In Phase 1, Kaiser remediated the land adjacent to the Kaiser property. In Phase 2, Kaiser remediated the Kaiser property itself.

Kaiser conducted off-site remediation activities from October 2000, through May 2001. Remediation activities primarily involved excavating affected soil and moving it onto Kaiser's property. A final status survey (FSS) was performed following completion of remediation/excavation in each survey unit to demonstrate that post-remediation radiological conditions satisfied the SDMP Action Plan criteria for unrestricted release as specified in the Phase 1 Decommissioning Plan (DP). Following successful remediation, excavations were backfilled. In March 2002, NRC informed Kaiser that the adjacent land areas met NRC's criteria for unrestricted release.

Kaiser submitted the Phase 2 DP on May 25, 2001, [with revisions on May 31, 2003, October 6, 2003, May 5, 2005, September 8, 2005 and March 21, 2006] and DP Addendum on May 9, 2002, with a revision on May 31, 2003. NRC approved these documents on June 8, 2003, January 7, 2004, June 22, 2005, and October 3, 2005.

Although Kaiser is not a licensee, it agreed to perform remediation activities in accordance with 10 CFR Part 40. Kaiser conducted decommissioning activities at the site in accordance with its approved DP from June 2003 to June 2006. In accordance with the DP, Kaiser conducted FSSs to demonstrate that the facility and site meet the criteria for unrestricted release as defined it its DP. Details of the FSS results were submitted to the NRC in six separate FSS reports (FSSRs). On September 14, 2006, Kaiser notified NRC that it had completed decommissioning and FSSs of the Tulsa, Oklahoma site, and that the FSSs demonstrate that the site meets the criteria for decommissioning and release for unrestricted use.

NRC conducted a number of independent confirmatory surveys to verify FSS results obtained by Kaiser. Confirmatory surveys consisted of surface scans for beta and gamma radiation, direct measurements for total beta activity, collection and analysis of soil samples for thorium, and collection of smear samples for determining removable radioactivity levels.

The Commission has concluded, based on the considerations discussed above, that: (1) Radioactive material above release limits has been properly disposed; (2) reasonable effort has been made to eliminate residual radioactive contamination; (3) submitted FSSRs and associated documentation, demonstrate that the facility and site are suitable for release in accordance with the criteria for decommissioning in 10 CFR Part 20, Subpart E; and (4) records required by 10 CFR 40.61(d) and (f) have been received. Therefore, the Kaiser Tulsa Site is suitable for unrestricted release.

FOR FURTHER INFORMATION CONTACT: See the letter dated September 14, 2006, and the Safety Evaluation Report dated December 29, 2006, available for public inspection at the Commission's Public Document Room (PDR), located at One White Flint North, Public File Area O1 F21, 11555 Rockville Pike (first floor), Rockville, Maryland. Publicly available records will be accessible electronically from the Agency-wide Documents Access and Management System's (ADAMS) Public Electronic Reading Room on the Internet at the NRC Web site, http://www.nrc.gov/reading-rm/adams.html (ADAMS Accession Nos. ML062700322, and ML062360251).

Persons who do not have access to ADAMS or who encounter problems in accessing the documents located in ADAMS, should contact the NRC PDR Reference staff by telephone at 1-800-397-4209, 301-415-4737 or by e-mail to pdr@nrc.gov.

Dated at Rockville, Maryland, this 29th day of December, 2006.
For the Nuclear Regulatory Commission.
Keith I. McConnell,
Deputy Director, Decommissioning and Uranium Recovery Licensing Directorate, Division of Waste Management and Environmental Protection, Office of Federal and State Materials and Environmental Management Programs.

[FR Doc. E7-73 Filed 1-8-07; 8:45 am]

BILLING CODE 7590-01-P